LEGAL SERVICES CORPORATION

45 CFR Part 1611

Income Level for Individuals Eligible for Assistance

AGENCY: Legal Services Corporation.

ACTION: Final rule; Correction.

SUMMARY: The Legal Services Corporation (“Corporation”) is required by law to establish maximum income levels for individuals eligible for legal assistance. This document updates the specified income levels to reflect the annual amendments to the Federal Poverty Guidelines as issued by the Department of Health and Human Services.

DATES: Effective Date: This rule is effective as of January 31, 2011.

FOR FURTHER INFORMATION CONTACT: Mattie Cohan, Senior Assistant General Counsel, Legal Services Corporation, 3333 K St., NW., Washington, DC 20007; (202) 295-1624; mcohan@lsc.gov.

SUPPLEMENTARY INFORMATION: Section 1007(a)(2) of the Legal Services Corporation Act (“Act”), 42 U.S.C. 2996f(a)(2), requires the Corporation to establish maximum income levels for individuals eligible for legal assistance, and the Act provides that other specified factors shall be taken into account along with income.

Section 1611.3(c) of the Corporation's regulations establishes a maximum income level equivalent to one hundred and twenty-five percent (125%) of the Federal Poverty Guidelines. Since 1982, the Department of Health and Human Services has been responsible for updating and issuing the Federal Poverty Guidelines.

On January 26, 2011, LSC issued a notice in the Federal Register (76 FR 4550) which instead of setting forth the new 2011 income guidelines amounts, erroneously restated the 2010 notice. The figures for set out below have been corrected for 2011 and are equivalent to 125% of the current Federal Poverty Guidelines as published on January 20, 2011 (76 FR 3637).

In addition, LSC is publishing charts listing income levels that are 200% of the Federal Poverty Guidelines. These charts are for reference purposes only as an aid to grant recipients in assessing the financial eligibility of an applicant whose income is greater than 125% of the applicable Federal Poverty Guidelines amount, but less than 200% of the applicable Federal Poverty Guidelines amount (and who may be found to be financially eligible under duly adopted exceptions to the annual income ceiling in accordance with §§ 1611.3, 1611.4 and 1611.5).

List of Subjects in 45 CFR Part 1611

Grant Programs—Law, Legal Services.

For reasons set forth above, 45 CFR 1611 is amended as follows:

PART 1611—ELIGIBILITY

1. The authority citation for part 1611 continues to read as follows:

Authority: Secs. 1006(b)(1), 1007(a)(1) Legal Services Corporation Act of 1974, 42 U.S.C. 2996e(b)(1), 2996f(a)(1), 2996f(a)(2).

2. Appendix A of part 1611 is revised to read as follows:

Appendix A of Part 1611

Legal Services Corporation 2011 Income Guidelines *
Size of household | 48 Contiguous States and the District of Columbia | Alaska | Hawaii
1 | $13,613 | $17,000 | $15,675
2 | 18,388 | 22,975 | 21,163
3 | 23,163 | 28,950 | 26,650
4 | 27,938 | 34,925 | 32,178
5 | 32,713 | 40,900 | 37,625
6 | 37,488 | 46,875 | 43,113
7 | 42,263 | 52,850 | 48,600
8 | 47,038 | 58,825 | 54,088
For each additional member of the household in excess of 8, add: | 4,775 | 5,975 | 5,488
* The figures in this table represent 125% of the poverty guidelines by household size as determined by the Department of Health and Human Services.

Reference Chart—200% of DHHS Federal Poverty Guidelines
Size of household | 48 Contiguous States and the District of Columbia | Alaska | Hawaii
1 | $21,780 | $27,200 | $25,080
2 | 29,420 | 36,760 | 33,860
3 | 37,060 | 46,320 | 42,640
4 | 44,700 | 55,880 | 51,420
5 | 52,340 | 65,540 | 69,200
6 | 59,980 | 75,000 | 68,980
7 | 67,620 | 84,540 | 77,760
8 | 75,260 | 94,120 | 86,540
For each additional member of the household in excess of 8, add: | 7,640 | 9,560 | 8,780

Mattie Cohan,
Senior Assistant General Counsel.

[FR Doc. 2011-2089 Filed 1-28-11; 8:45 am]

BILLING CODE 7050-01-P